DEPARTMENT OF COMMERCE

International Trade Administration

North American Free-Trade Agreement, Article 1904; NAFTA Panel Reviews; Request for Panel Review

AGENCY: NAFTA Secretariat, United States Section, International Trade Administration, Commerce.

ACTION: Notice of Intent to Request A Panel Review

SUMMARY: On February 26, 2002, The Government of Canada filed a Notice of Intent to Request A Panel Review with the United States Section of the NAFTA Secretariat pursuant to Article 1904.4 of the North American Free Trade Agreement. The Notice was based on the Notice of Preliminary Affirmative Countervailing Duty Determination, Preliminary Affirmative Critical Circumstances Determination, and Alignment of Final Countervailing Duty Determination With Final Antidumping Duty Determination regarding Certain Softwood Lumber Products from Canada, made by the United States International Trade Administration. This determinations were published in the Federal Register, (66 FR 43186) on August 17, 2001. The NAFTA Secretariat has assigned Case Number USA-CDA-2002-1904-03 to this Notice.

FOR FURTHER INFORMATION CONTACT: Caratina L. Alston, United States Secretary, NAFTA Secretariat, Suite 2061, 14th and Constitution Avenue, Washington, DC 20230, (202) 482-5438.

SUPPLEMENTARY INFORMATION: Chapter 19 of the North American Free-Trade Agreement (“Agreement”) establishes a mechanism to replace domestic judicial review of final determinations in antidumping and countervailing duty cases involving imports from a NAFTA country with review by independent binational panels. When a Request for Panel Review is filed, a panel is established to act in place of national courts to review expeditiously the final determination to determine whether it conforms with the antidumping or countervailing duty law of the country that made the determination.

Under Article 1904 of the Agreement, which came into force on January 1, 1994, the Government of the United States, the Government of Canada and the Government of Mexico established Rules of Procedure for Article 1904 Binational Panel Reviews (“Rules”). These Rules were published in the Federal Register on February 23, 1994 (59 FR 8686).

A Notice of Intent to Request A Panel Review was filed with the United States Section of the NAFTA Secretariat, pursuant to Article 1904.4 of the Agreement, on February 27, 2002, requesting that a panel be established in accordance with the Article outlined above.

Article 1904.4 provide in part that:

Where the competent investigating authority of the importing Party has imposed provisional measures in an investigation, the other involved Party may provide notice of its intention to request a panel under this Article, and the Parties shall being to establish a panel at that time.

Dated: March 4, 2002.
Caratina L. Alston,
United States Secretary, NAFTA Secretariat.

[FR Doc. 02-6884 Filed 3-21-02; 8:45 am]

BILLING CODE 3510-GT-P